FEDERAL COMMUNICATIONS COMMISSION

47 CFR Part 73

[DA 05-2021; MB Docket No. 04-403, RM-11097; MB Docket No. 04-349, RM-10827; MB Docket No. 04-351, RM-10828; MB Docket No. 04-342, RM-10732]

Radio Broadcasting Services; Baudette, MN; Fernley, NV; Paducah, TX and Pittsburg, OK

AGENCY: Federal Communications Commission.

ACTION: Final rule.

SUMMARY: This document grants four new allotments in Baudette, Minnesota, Fernley, Nevada, Paducah, Texas and Pittsburg, Oklahoma. The Audio Division, at the request of R.P. Broadcasting, Inc., allots Channel 233C1 at Baudette, Minnesota, as the community's first local aural transmission service. The reference coordinates for Channel 233C1 at Baudette are 48-42-52 North Latitude and 94-35-32 West Longitude. The allotment requires a site restriction of 0.6 kilometers (0.4 miles) east to avoid a short-spacing to Canadian Station CHIQ-FM, Channel 232C, Winnipeg, Manitoba, Canada. SUPPLEMENTARY INFORMATION, infra.

DATES: Effective August 29, 2005. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 04-403, 04-349, 04-351, 04-342, adopted July 13, 2005, and released July 15, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

The Audio Division, at the request of Linda A. Davidson, allots Channel 231C3 at Lockney, Texas, as the community's first local aural transmission service. The reference coordinates for Channel 231C3 at Fernley are 39-37-00 North Latitude and 119-08-51 West Longitude. The allotment requires a site restriction of 9 kilometers (5.6 miles) east to avoid a short-spacing to the license site of FM Station KHXR, Channel 233C2, Sun Valley, Nevada.

The Audio Division, at the request of Charles Crawford, allots Channel 232A at Pittsburg, Oklahoma, as the community's first local aural transmission service. The reference coordinates for Channel 232A at Pittsburg are 34-41-15 North Latitude and 95-42-19 West Longitude. This allotment requires a site restriction of 13.5 kilometers (8.4 miles) east to avoid short-spacing to the license site of FM Station KTSO, Channel 231C1, Glenpool, Oklahoma. To accommodate the Pittsburg allotment, we are also relocating the reference coordinates for vacant Channel 232A at Cove, Arkansas. The reference coordinates are 34-21-00 North Latitude and 94-30-00 West Longitude. This new site is 12.5 kilometers (7.8 miles) southwest of Cove.

The Audio Division, at the request of Charles Crawford, allots Channel 234C3 at Paducah, Texas, as the community's first local aural transmission service. The reference coordinates for Channel 234C3 at Paducah are 34-00-48 North Latitude and 100-18-24 West Longitude. This allotment requires no site restriction because the location is at city reference coordinates.

List of Subjects in 47 CFR Part 73

Radio, Radio broadcasting.

PART 73—RADIO BROADCAST SERVICES

1.The authority citation for part 73 continues to read as follows:

Authority: 47 U.S.C. 154, 303, 334 and 336.

§ 73.202 [Amended]

2.Section 73.202(b), the Table of FM Allotments under Minnesota, is amended by adding Baudette, Channel 233C1.

3. Section 73.202(b), the Table of FM Allotments under Nevada, is amended by adding Fernley, Channel 231C3.

4. Section 73.202(b), the Table of FM Allotments under Oklahoma, is amended by adding Pittsburg, Channel 232A.

5. Section 73.202(b), the Table of FM Allotments under Texas, is amended by adding Paducah, Channel 234C3.

Federal Communications Commission.
John A. Karousos,
Assistant Chief, Audio Division, Media Bureau.

[FR Doc. 05-14962 Filed 8-2-05; 8:45 am]

BILLING CODE 6712-01-P